FEDERAL COMMUNICATIONS COMMISSION

[Report No. 2626]

Petitions for Reconsideration and Clarification of Action in Rulemaking Proceedings

September 3, 2003.

Petitions for Reconsideration and Clarification has been filed in the Commission's Rulemaking proceedings listed in this Public Notice and published pursuant to 47 CFR 1.429(e). The full text of this document is available for viewing and copying in Room CY-A257, 445 12th Street, SW., Washington, DC or may be purchased from the Commission's copy contractor, Qualex International (202) 863-2893. Oppositions to these petitions must be filed by September 25, 2003. See § 1.4(b)(1) of the Commission's rules (47 CFR 1.4(b)(1)). Replies to an opposition must be filed within 10 days after the time for filing oppositions have expired.

Subject: In the Matter of the Commission's Rules-Competitive Bidding Procedures (WT Docket No. 97-82).

Number of Petitions Filed: 2.

Subject: In the Matter of the Implementation of sections 309(j) and 337 of the Communications Act of 1934 as Amended (WT Docket No. 99-87);

Promotion of Spectrum Efficient Technologies on Certain Part 90 Frequencies.

Number of Petitions Filed: 19.

Marlene H. Dortch,
Secretary.

[FR Doc. 03-22967 Filed 9-9-03; 8:45 am]

BILLING CODE 6712-01-M